DEPARTMENT OF EDUCATION

[Docket No.: ED-2021-SCC-0149]

Agency Information Collection Activities; Comment Request; School Pulse Panel Data Collection

AGENCY: Institute of Educational Science (IES), Department of Education (ED).

ACTION: Notice.

SUMMARY: In accordance with the Paperwork Reduction Act of 1995, ED is requesting the Office of Management and Budget (OMB) to conduct an emergency review of a new information collection.

DATES: Approval by OMB has been requested by October 22, 2021. The Department has waived the comment period for this notice.

ADDRESSES: To access and review all the documents related to the information collection listed in this notice, please use http://www.regulations.gov by searching the Docket ID number ED-2021-SCC-0149.

FOR FURTHER INFORMATION CONTACT: For specific questions related to collection activities, please contact Carrie Clarady, 202-245-6347.

SUPPLEMENTARY INFORMATION: This information collection request contains (1) Title of Collection: School Pulse Panel Data Collection; (2) OMB Control Number: 1850-0963; (3) Type of Review: A revision of a currently approved collection; (4) Respondents/Affected Public: State, Local, and Tribal Governments; (5) Total Estimated Number of Annual Responses: 17,280; (6) Total Estimated Number of Annual Burden Hours: 4,752.

Abstract: The School Pulse Panel is a new study conducted by the National Center for Education Statistics (NCES), part of the Institute of Education Sciences (IES), within the United States Department of Education, to collect extensive data on issues concerning the impact of the COVID-19 pandemic on students and staff in U.S. public primary, middle, high, and combined-grade schools. The survey will ask school district staff and sampled school principals about topics such as instructional mode offered; enrollment counts of subgroups of students using various instructional modes; learning loss mitigation strategies; safe and healthy school mitigation strategies; special education services; use of technology; use of federal relief funds; and information on staffing. Because this data collection is extremely high priority and time sensitive, it will undergo Emergency Clearance. The administration of the School Pulse Panel study is in direct response to President Biden's Executive Order 14000: Supporting the Reopening and Continuing Operation of Schools and Early Childhood Education Providers. It will be one of the nation's few sources of reliable data on a wealth of information focused on school reopening efforts, virus spread mitigation strategies, services offered for students and staff, and technology use, as reported by school district staff and principals in U.S. public schools. About 1,200 public elementary, middle, high, and combined-grade schools will be selected to participate in a panel where school and district staff will be asked to provide requested data monthly during the 2021-22 school years. This approach provides the ability to collect detailed information on various topics while also assessing changes in reopening efforts over time. Given the high demand for data collection during this time, the content of the survey may change on a quarterly basis.

Emergency Justification: In September 2021, NCES made the decision to suspend data collection for the months of October, November, and December 2021, as the response rate for the first month of the collection was under 10 percent and not expected to provide sufficient data for accurate and unbiased estimates to be produced. The reason for the delay was to provide the Institute of Education Sciences sufficient time to redesign the study to improve response rates. A primary strategy is to reduce burden in each month's collection and to rotate content to address data needs of the agencies across months. The January SPP collection will be based on updated materials cleared through OMB in previous submissions for the study. The SPP study itself is extremely important particularly now that COVID-19 has not waned, and the pulse model is one that the agency will need after the pandemic subsides for other quick-turnaround data needs.

Dated: October 22, 2021.
Stephanie Valentine,
PRA Coordinator, Strategic Collections and Clearance, Governance and Strategy Division, Office of Chief Data Officer, Office of Planning, Evaluation and Policy Development.

[FR Doc. 2021-23424 Filed 10-26-21; 8:45 am]

BILLING CODE 4000-01-P